DEPARTMENT OF HOUSING AND URBAN DEVELOPMENT

[Docket No. FR-5828-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202)-720-8873; AIR FORCE: Mr. Robert E. Moriarty, P.E., AFCEC/CI, 2261 Hughes Avenue, Ste. 155, JBSA, Lackland, TX 78236-9853; ARMY: Ms. Veronica Rines, Office of the Assistant Chief of Staff for Installation Management, Department of Army, Room 5A128, 600 Army Pentagon, Washington, DC 20310, (571)-256-8145; ENERGY: Mr. David Steinau, Department of Energy, Office of Property Management, 1000 Independence Ave. SW., Washington, DC 20585 (202) 287-1503; GSA: Mr. Flavio Peres, General Services Administration, Office of Real Property Utilization and Disposal, 1800 F Street NW., Room 7040, Washington, DC 20405, (202) 501-0084; INTERIOR: Mr. Michael Wright, Acquisition & Property Management, Department of the Interior, 3960 N. 56th Ave. #104, Hollywood, FL 33021; (443) 223-4639; NASA: Mr. Frank T. Bellinger, Facilities Engineering Division, National Aeronautics & Space Administration, Code JX, Washington, DC 20546, (202)-358-1124; NAVY: Mr. Steve Matteo, Department of the Navy, Asset Management Division, Naval Facilities Engineering Command, Washington Navy Yard, 1330 Patterson Ave. SW., Suite 1000, Washington, DC 20374, (202)-685-9426 (These are not toll-free numbers).

Dated: January 29, 2015.
Norman A. Suchar,
Director, Office of Special Needs Assistance Programs.

TITLE V, FEDERAL SURPLUS PROPERTY PROGRAM FEDERAL REGISTER REPORT FOR 02/06/2015

Suitable/Available Properties

Building

California

Tent Cabin #B

1045-San Jacinto Wilderness

Idyllwild CA 92220

Landholding Agency: Agriculture

Property Number: 15201510006

Status: Unutilized

Comments: offsite removal only; no future agency need; 42+ yrs. old.; wood structure; 144 sq. ft.; poor condition; administrative; 24+ months vacate; contact Agriculture for more info.

2311-Applewhite Campground

Storage

Applewhite Campground

Lytle Creek CA 92358

Landholding Agency: Agriculture

Property Number: 15201510007

Status: Unutilized

Comments: offsite removal only; no future agency need; Storage shed; 80 sq. ft.; 25+months vacant; structure in poor condition; contact Agriculture for more info.

Tent Cabin #A

1044 San Jacinto Wilderness

Idyllwild CA 92220

Landholding Agency: Agriculture

Property Number: 15201510008

Status: Unutilized

Comments: offsite removal only; no future agency need; 42+ yrs. old.; wood structure; 144 sq. ft.; poor condition; administrative; 24+ months vacate; contact Agriculture for more info.

Unsuitable Properties

Building

California

Storage Warehouse #525

Map Crid Q28, Edguiba Road

Mountain View CA

Landholding Agency: NASA

Property Number: 71201510004

Status: Unutilized

Comments: public access denied & no alternative method to gain access w/out compromising national security.

Reasons: Secured Area

Michigan

Bldg. 951

44580 N. Jefferson Ave.

Selfridge ANGB MI 48045

Landholding Agency: Air Force

Property Number: 18201510004

Status: Unutilized

Comments: public access denied & no alternative method to gain access w/out compromising national security.

Reasons: Secured Area

New Mexico

7 Buildings

Los Alamos National Laboratory

Los Alamos NM 87545

Landholding Agency: Energy

Property Number: 41201510002

Status: Excess

Directions: 890110515: TA03-0154; TA08-0070; TA16-0542; TA41-0007; TA48-0143; TA53-0553; 0758

Comments: public access denied & no alternative method to gain access w/out compromising national security.

Reasons: Secured Area

114 General Purposes Bldg. 437

Steam Generator Diesel Control Bldg.

12600 NASA Road White Sands Test Facility

Las Cruces NM 88012

Landholding Agency: NASA

Property Number: 71201510003

Status: Unutilized

Directions: 1069/72/99

Comments: public access denied & no alternative method to gain access w/out compromising national security.

Reasons: Secured Area

114 General Purposes Bldg.;

437 Steam Generator Diesel Control Bldg.

White Sand Test Facility, 12600 NASA Road

Las Cruces NM 88012

Landholding Agency: NASA

Property Number: 71201510005

Status: Unutilized

Directions: 1029/72/22; 1069/22/99

Comments: public access denied & no alternative method to gain access w/out compromising national security.

Reasons: Secured Area

New York

QTP Radio Comm. Link

Repeater Facility

N. of Tennanah Rd.

Fremont NY 12736

Landholding Agency: GSA

Property Number: 54201510006

Status: Excess

GSA Number: 1-U-NY-0988-AA

Directions: Disposal Agency: GSA; Landholding Agency: FAA

Comments: property can be reached only by crossing private property and there is no established right or means of entry.

Reasons: Other—Landlocked; Not accessible by road

Bldg. #86, Boiler House &

Bldg. #101 Fuel Oil Pump House

Jamaica Bay Unit, Floyd Bennett Field

Brooklyn NY 11234

Landholding Agency: Interior

Property Number: 61201510001

Status: Excess

Comments: both properties are located in a floodway that has not been contained or corrected.

Reasons: Floodway

Ohio

Bldg. 911 Res Forces Opl Tng.

7600 Tuskegee Airmen Rd.

Columbus OH 43217

Landholding Agency: Air Force

Property Number: 18201510001

Status: Underutilized

Comments: public access denied & no alternative method to gain access w/out compromising national security.

Reasons: Secured Area

Oregon

Portland IAP (ANG) TQKD

Bldg. 495

6801 NE Cornfoot Rd.

Portland OR 97218-2797

Landholding Agency: Air Force

Property Number: 18201510006

Status: Unutilized

Comments: public access denied & no alternative method to gain access w/out compromising national security.

Reasons: Secured Area

Pennsylvania

Letterkenny Army Depot

Bldg. 2365; 1465; 1456

Intersection of Georgia Avenue

Chambersburg PA 17201

Landholding Agency: Army

Property Number: 21201510001

Status: Unutilized

Directions: 2365; 1465; 1456

Comments: public access denied & no alternative method to gain access w/out compromising national security.

Reasons: Secured Area

South Carolina

Migrant Camp A-Walsh; 2 Bldg.

3003A; 3003B

3003A Ann's Point Road

Beaufort SC

Landholding Agency: Navy

Property Number: 77201510005

Status: Unutilized

Directions: 3003A; 3003B

Comments: properties located within an Airport runway clear zone.

Reasons: Within airport runway clear zone

Seventh Day Church, Bldg. 3002

Intersection of Stanley Farm Road & Laurel

Bay Road

Beaufort SC

Landholding Agency: Navy

Property Number: 77201510006

Status: Unutilized

Comments: properties located within an Airport runway clear zone.

Reasons: Within airport runway clear zone

10 Buildings

MCRD Parris Island

MCRD Parris Island SC

Landholding Agency: Navy

Property Number: 77201510007

Status: Excess

Directions: 410; 417; 418; 419; 420; 421; 422; 423; 424; 771

Comments: public access denied & no alternative method to gain access w/out compromising national security.

Reasons: Secured Area

Tennessee

4 Buildings

320 Post Ave. McGhee Tyson ANG Base

Louisville TN 37777

Landholding Agency: Air Force

Property Number: 18201510005

Status: Underutilized

Directions: Bldg. 261; 254; 245; 271

Comments: public access denied & no alternative method to gain access w/out compromising national security.

Reasons: Secured Area

Utah

Salt Lake City Air Nat'l Guard

Base, Bldg. #1522

765 N. 2200 West

Salt Lake City UT 84116-2999

Landholding Agency: Air Force

Property Number: 18201510003

Status: Unutilized

Comments: public access denied & no alternative method to gain access w/out compromising national security.

Reasons: Secured Area

Washington

4 Buildings

Naval Base Kitsap Bangor

Bremerton WA 98314

Landholding Agency: Navy

Property Number: 77201510004

Status: Unutilized

Directions: B-6034; B-6035; B-6036; B-6037

Comments: public access denied & no alternative method to gain access w/out compromising national security.

Reasons: Secured Area

[FR Doc. 2015-02260 Filed 2-5-15; 8:45 am]

BILLING CODE 4210-67-P